DEPARTMENT OF HEALTH AND HUMAN SERVICES

Centers for Medicare & Medicaid Services

[Document Identifiers CMS-685, CMS-10436, CMS-10452, CMS-10180 and CMS-R-199]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a previously approved collection; Title of Information Collection: End Stage Renal Disease (ESRD) Network Semi-Annual Cost Report Forms and Supporting Regulations in 42 CFR section 405.2110 and 42 CFR 405.2112; Use: Section 1881(c) of the Social Security Act establishes End Stage Renal Disease (ESRD) Network contracts. The regulations found at 42 CFR 405.2110 and 405.2112 designated 18 ESRD Networks which are funded by renewable contracts. These contracts are on 3-year cycles. To better administer the program, CMS is requiring contractors to submit semi-annual cost reports. The purpose of the cost reports is to enable the ESRD Networks to report costs in a standardized manner. This will allow CMS to review, compare and project ESRD Network costs during the life of the contract. Since the last collection, the survey instrument has been revised. The burden has not changed. Form Number: CMS-685 (OMB#: 0938-0657); Frequency: Reporting—Semi-annually; Affected Public: Not-for-profit institutions; Number of Respondents: 18; Total Annual Responses: 36; Total Annual Hours: 108. (For policy questions regarding this collection contact Benjamin Bernstein at 410-786-6570. For all other issues call 410-786-1326.)

2. Type of Information Collection Request: New collection; Title of Information Collection: Evaluation of the Multi-Payer Advanced Primary Care Practice Demonstration; Use: On September 16, 2009, the Department of Health and Human Services announced the establishment of the Multi-Payer Advanced Primary Care Practice (MAPCP) Demonstration, under which Medicare joined Medicaid and private insurers as a payer participant in state-sponsored initiatives to promote the principles that characterize advanced primary care, often referred to as the “patient-centered medical home” (PCMH). The CMS selected eight states to participate in this demonstration: Maine, Vermont, Rhode Island, New York, Pennsylvania, North Carolina, Michigan, and Minnesota. These states vary on a number of important dimensions, such as features of their public (Medicaid) and private insurance markets, delivery system, prior experience with medical home initiatives, and nature of their state-sponsored multi-payer initiative.

CMS is conducting an evaluation of the demonstration to assess the effects of advanced primary care practice when supported by Medicare, Medicaid, and private health plans. As part of this evaluation, qualitative and quantitative data will be collected and analyzed to answer research questions focused on: (1) State initiative features and implementation, including various payment models; (2) practice characteristics, particularly medical home transformation; and (3) outcomes, including access to and coordination of care, clinical quality of care and patient safety, beneficiary experience with care, patterns of utilization, Medicare and Medicaid expenditures, and budget neutrality.

Subsequent to the publication of the 60-day Federal Register notice (May 31, 2012; 77 FR 32118), the interview protocols have been revised by adding, revising and/or deleting questions. Also, there have been protocols added to the information collection request. Form Number: CMS-10436 (OCN: 0938-New); Frequency: Yearly; Affected Public: Individuals and households; Number of Respondents: 472; Total Annual Responses: 472; Total Annual Hours: 478 (For policy questions regarding this collection contact Suzanne Goodwin at 410-786-0226. For all other issues call 410-786-1326.)

3. Type of Information Collection Request: New collection; Title of Information Collection:CMS Enterprise Identity Management System; Use: The Enterprise Identity Management (EIDM) solution will provide an enterprise-wide solution that will also support CMS' senior management goal to improve the Provider and Health Information Exchange experience by providing an enterprise-wide set of credentials and single sign-on capability for multiple CMS applications. In order to prove the identity of an individual requesting electronic access to CMS protected information or services, CMS will collect a core set of attributes about that individual. These core attributes will be used to:

1. Provide the identity proofing service sufficient data to establish that the individual's identity is provable to a NIST assurance level;

2. Store the approval information returned by the identity proofing service;

3. Provide CMS with additional data for multi-factor identification (personal questions and answers);

4. Provide the user a single sign-on, federated CMS EIDM ID and Password;

5. Authenticate the user; and

6. Authorize the user for application access.

The information collected will be gathered and used solely by CMS and approved contractor(s) and state health insurance exchanges. Information confidentiality will conform to HIPAA and FISMA requirements. Respondents may also access CMS Terms of Service and CMS Privacy Statement on the Web. Form Numbers: CMS-10452 (OCN: 0938-New); Frequency: Reporting—On occasion; Affected Public: Individuals and households; Number of Annual Respondents: 26,000,000; Total Annual Responses: 26,000,000; Total Annual Hours: 8,666,667. (For policy questions regarding this collection contact Robert Burger at 410-786-2125. For all other issues call 410-786-1326.)

4. Type of Information Collection Request: Reinstatement without change of a previously approved collection; Title of Information Collection: Children's Health Insurance Program (CHIP) Report on Payables and Receivables; Use: Collection of Children's Health Insurance Program (CHIP) data and the calculation of the CHIP Incurred But Not Reported (IBNR) estimate are pertinent to CMS' financial audit. The Chief Financial Officer auditors have reported the lack of an estimate for CHIP IBNR payables and receivables as a reportable condition in the FY 2005 audit of CMS's financial statements. It is essential that CMS collect the necessary data from State agencies in FY 2006, so that CMS continues to receive an unqualified audit opinion on its financial statements. Program expenditures for the CHIP have increased since its inception; as such, CHIP receivables and payables may materially impact the financial statements. The CHIP Report on Payables and Receivables will provide the information needed to calculate the CHIP IBNR; Form Number: CMS-10180 (OCN: 0938-0988); Frequency: Reporting—Annually; Affected Public: State, Local or Tribal governments; Number of Respondents: 56; Total Annual Responses: 56; Total Annual Hours: 392. (For policy questions regarding this collection contact Michele Myers at 410-786-7911. For all other issues call 410-786-1326.)

5. Type of Information Collection Request: Reinstatement without change of a previously approved collection; Title of Information Collection: Medicaid Report on Payables and Receivables; Use: The Chief Financial Officers (CFO) Act of 1990, as amended by the Government Management Reform Act (GMRA) of 1994, requires government agencies to produce auditable financial statements. Because the Centers for Medicare & Medicaid Services (CMS) fulfills its mission through its contractors and the States; these entities are the primary source of information for the financial statements. There are three basic categories of data: Expenses, payables, and receivables. The CMS-64 is used to collect data on Medicaid expenses. The CMS-R-199 collects Medicaid payable and receivable accounting data from the States. Form Number: CMS-R-199 (OCN: 0938-0697); Frequency: Reporting—Annually; Affected Public: State, Local or Tribal governments; Number of Respondents: 56; Total Annual Responses: 56; Total Annual Hours: 336. (For policy questions regarding this collection contact Michele Myers at 410-786-7911. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on May 28, 2013. OMB, Office of Information and Regulatory Affairs, Attention: CMS Desk Officer, Fax Number: (202) 395-6974, Email: OIRA_submission@omb.eop.gov.

Dated: April 23, 2013.
Martique Jones,
Deputy Director, Regulations Development Group, Office of Strategic Operations and Regulatory Affairs.

[FR Doc. 2013-09913 Filed 4-25-13; 8:45 am]

BILLING CODE 4120-01-P